DEPARTMENT OF HOUSING AND URBAN DEVELOPMENT

Federal Property Suitable as Facilities To Assist the Homeless

[Docket No. FR-4730-N-42]

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW. Washington, DC 20410; telephone (202) 708-1234; TTY number for the hearing- and speech-impaired (202) 708-2565 (these telephone numbers are not toll-free), or call the toll-free Title V information line a 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable /unavailable.

For properties listed as suitable/unavailable, the landholding agency has decided that the property cannot be declared excess or made available for use to assist the homeless, and the property will not be available.

Properties listed a unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e, acreage, floor plan, existing sanitary facilities, exact street address), providers should contact the appropriate landholding agencies at the following addresses: GSA: Mr. Brian K. Polly, Assistant Commissioner, General Services Administration, Office of Property Disposal, 18th and F Streets, NW., Washington, DC 20405; (202) 501-0052; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: October 10, 2002.
John D. Garrity,
Director, Office of Special Needs Assistance Programs.

Suitable/Available Properties

Buildings (by State)

Arkansas

Jamestown Antenna Tower Site.

Jamestown Co: Independence AR 7250-

Landholding Agency: GSA.

Property Number: 54200240001.

Status: Surplus.

Comment: Radio repeater tower on 1.05 acres, subject to existing easements.

GSA Number: 7-D-AR-0562.

Ash Flat Comm. Site.

Gillette Co: AR 72055-

Landholding Agency: GSA.

Property Number: 54200240002.

Status: Surplus.

Comment: Radio repeater tower on 2.06 acres, subject to existing easements.

GSA Number: 7-D-AR-0565.

Maryland

9 Housing Units.

U.S. Naval Station.

Annapolis Co: Anne Arundel MD 21402-

Landholding Agency: Navy.

Property Number: 77200240005.

Status: Excess.

Comment: Size varies, brick veneer wood frame on slab, off-site use only.

New York

Army Reserve Center.

205 Oak Street.

Batavia Co: NY 14020-

Landholding Agency: GSA.

Property Number: 54200240004.

Status: Excess.

Comment: 9595 sq. ft., presence of asbestos/lead paint, most recent use—admin/storage, proximity of wetlands.

GSA Number: 1-D-NY-890.

Fed. Bldg. #2.

850 Third Ave.

Brooklyn Co: NY 11232-

Landholding Agency: GSA.

Property Number: 54200240005.

Status: Surplus.

Comment: 140,000 sq. ft., needs major rehab, presence of asbestos, historic property, heavy industrial area, presence of hazardous materials and toxic releases, abutting Federal prison.

GSA Number: 1-G-NY-0872.

Suitable/Unavailable Properties

Buildings (by State)

Tennessee

Courthouse/Fed. Bldg.

101 W. Summer Street.

Greeneville Co: Greene TN 37743-

Landholding Agency: GSA.

Property Number: 54200210027.

Status: Excess.

Comment: 17,241 sq. ft. office bldg. w/25 parking spaces, presence of asbestos, subject to Historic Preservation Covenants, published in error on 9/13/02 as available.

GSA Number: 4-G-TN-0652.

Virginia

Federal Building.

1426 N. Augusta St.

Staunton Co: Augusta VA 24401-2401.

Landholding Agency: GSA.

Property Number: 54200210022.

Status: Surplus.

Comment: 4084 sq. ft. office building, published in error on 9/13/02 as available.

GSA Number: 4-G-VA-0728.

Land (by State)

North Carolina

4.939 acres.

Staton Road.

Greenville Co: Pitt NC.

Landholding Agency: GSA.

Property Number: 54200210002.

Status: Surplus.

Comment: Undeveloped land, published in error on 9/13/02 as available.

GSA Number: 4-D-NC-738.

Unsuitable Properties

Buildings (by State)

California

Bldg. 02606.

Naval Air Weapons Station.

China Lake Co: CA 93555-6100.

Landholding Agency: Navy.

Property Number: 77200240001.

Status: Excess.

Reasons: Secured Area, Extensive deterioration.

Florida

Bldg. 148.

Naval Air Station.

Jacksonville Co: Duval FL 32212-

Landholding Agency: Navy.

Property Number: 77200240002.

Status: Unutilized.

Reasons: Secured Area, Extensive deterioration.

Bldg. 161.

Naval Air Station.

Jacksonville Co: Duval FL 32212-

Landholding Agency: Navy.

Property Number: 77200240003.

Status: Unutilized.

Reasons: Secured Area, Extensive deterioration.

Bldg. 944.

Naval Air Station.

Jacksonville Co: Duval FL 32212-

Landholding Agency: Navy.

Property Number: 77200240004.

Status: Unutilized.

Reasons: Secured Area, Extensive deterioration.

Virginia

30 Housing Units.

Marine Corps Base.

Quantico Co: VA 22134-

Landholding Agency: Navy.

Property Number: 77200240006.

Status: Excess.

Reason: Extensive deterioration.

Bldgs. 3028, 3037.

Marine Corps Base.

Quantico Co: VA 22134-

Landholding Agency: Navy.

Property Number: 77200240007.

Status: Excess.

Reason: Extensive deterioration.

Bldgs. 3035, 3040, 3205.

Marine Corps Base.

Quantico Co: VA 22134-

Landholding Agency: Navy.

Property Number: 77200240008.

Status: Excess.

Reason: Extensive deterioration.

Bldg. 60.

Naval Surface Warfare Center.

Dahlgren Co: King George VA 22448-

Landholding Agency: Navy.

Property Number: 77200240009.

Status: Unutilized.

Reasons: Within 2000 ft. of flammable or explosive material, Secured Area, Extensive deterioration.

Bldg. 1216.

Naval Surface Warfare Center.

Dahlgren Co: King George VA 22448-

Landholding Agency: Navy.

Property Number: 77200240010.

Status: Unutilized.

Reasons: Within 2000 ft. of flammable or explosive material, Secured Area, Extensive deterioration.

Bldg. 1354.

Naval Surface Warfare Center.

Dahlgren Co: King George VA 22448-

Landholding Agency: Navy.

Property Number: 77200240011.

Status: Unutilized.

Reasons: Within 2000 ft. of flammable or explosive material, Secured Area, Extensive deterioration.

Land (by State)

Arkansas

Recreation Area.

Sandy Beach.

Camden Co: Ouachita AR 71701-

Landholding Agency: GSA.

Property Number: 54200240003.

Status: Surplus.

Reason: Floodway.

GSA Number: 7-D-AR-0566.

[FR Doc. 02-26344 Filed 10-16-02; 8:45 am]

BILLING CODE 4210-29-M